DEPARTMENT OF COMMERCE

Census Bureau

Proposed Information Collection; Comment Request; State and Local Government Finance Collections, and Public Employment and Payroll Collections

AGENCY: U.S. Census Bureau, Commerce.

ACTION: Notice.

SUMMARY: The Department of Commerce, as part of its continuing effort to reduce paperwork and respondent burden, invites the general public and other Federal agencies to take this opportunity to comment on proposed revisions to the State and Local Government Finance Collections and Public Employment and Payroll Collections, as required by the Paperwork Reduction Act of 1995.

DATES: To ensure consideration, written comments must be submitted on or before February 28, 2020.

ADDRESSES: Direct all written comments to Thomas Smith, PRA Liaison, U.S. Census Bureau, 4600 Silver Hill Road, Room 7K250A, Washington, DC 20233 (or via the internet at PRAcomments@doc.gov). You may also submit comments, identified by Docket Number USBC-2019-0018, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or copies of the information collection instrument(s) and instructions should be directed to Kimberly Moore, Chief, Economy-Wide Statistics Division, U.S. Census Bureau, Room 8K154, 4600 Silver Hill Road, Washington, DC 20233; or by email Kimberly.P.Moore@census.gov.

SUPPLEMENTARY INFORMATION:

I. Abstract

The Census Bureau plans to request clearance for the collection tools necessary to conduct the public finance and the public employment and payroll programs, which consists of the annual collections of information and a quinquennial collection in the census years ending in “2” and “7”. This clearance and all future clearances will combine all Census of Governments programs and their related Annual programs, which were previously submitted separately. During the upcoming three years, we intend to conduct the 2020 and 2021 Annual Surveys of State and Local Government Finances and the 2021 Survey of Public Employment and Payroll and the 2022 Census of Governments—Finance and 2022 Census of Governments—Employment.

The Census of Governments—Finance and Annual Surveys of State and Local Government Finances collect data on state government finances and estimates of local government revenue, expenditure, debt, assets, and pension systems nationally and within state areas. The surveys include the Annual Survey of State Government Finances, the Annual Survey of Local Government Finances, the Annual Survey of State Tax Collections and the Annual Survey of Public Pensions. The Census of Governments—Employment and Annual Survey of Public Employment and Payroll collects state and local government data on full-time and part-time employment, part-time hours worked, full-time equivalent employment, and payroll statistics by governmental function. Data are collected for all agencies, departments, and institutions of the fifty state governments and for a sample of all local governments (counties, municipalities, townships, and special districts). Data for school districts are collected under a separate survey. In the census year, equivalent data are collected from all local governments. These separate data collections are necessary to create the comprehensive financial and employment picture for state and local governments. The combined data are released as part of the State and Local Government Finance and Public Employment & Payroll statistical series. The collections also produce individual data products that focus on state governments, local governments, public pensions and public employment in greater detail than the combined financial and employment series as a by-product of their collections for the combined data series. The Census Bureau provides these data to the Bureau of Economic Analysis to develop the public sector components of the National Income and Product Accounts and for constructing the functional payrolls in the public sector of the Gross Domestic Product, payroll being the single largest component of current operations, and to the Federal Reserve Board for use in the Flow of Funds Accounts. Other Federal agencies that make use of the data include the Council of Economic Advisers, the Agency for Healthcare Research and Quality, the Government Accountability Office, and the Department of Justice. State and local governments and related organizations, public policy groups, public interest groups, private research organizations, and private sector businesses also use these data.

The program has collected comprehensive and comparable government financial and employment statistics since 1940.

Starting with the 2020 data collection for the Annual Survey of Public Pensions, the Census Bureau proposes modifying the existing questions concerning actuarial funding of public pension plans for state-administered plans, adding these questions to the survey for locally-administered plans and differentiating between administrative costs and investment costs. These updates reflect changes in accounting standards and the needs of data users inside and outside the federal statistical system.

II. Method of Collection

These surveys use multiple modes for data collection including internet collection with a mailed invitation, telephone, and central collection. Other methods used to collect data and maximize response include collecting state and local government data through submitted financial audits, state financial reports, and comprehensive financial reports and via electronic or mailed files and/or records.

The Census Bureau developed central collection agreements with state and large local government officials to collect the data from their dependent agencies and report to the Census Bureau as a central respondent. These arrangements eliminate the need for a mail invitation for approximately 5,500 governmental units, approximately 3,716 state agencies and 158 school systems in a sample year and 36,000 during the year of the Census of Governments. The arrangements reduce burden by greatly reducing the number of respondents who have to complete an on-line form as the data are acquired from a centralized source instead of multiple sources. Currently, the Census Bureau has central collection arrangements to collect local government data with 27 states, four local school district governments and state government data from all 50 states. The Census Bureau continues to expand the conversion of paper submissions into electronic formats by collaborating with state and local governments regarding electronic reporting of central collection data, and encouraging electronic responses from individual governments.

III. Data

OMB Control Number: 0607-0585.

Form Number(s): F-5, F-11, F-12, F-13, F-28, F-29, F-32, E-1, E-2, E-3, E-4, E-5, E-6, E-7, E-8, E-9, E-10.

Type of Review: Regular submission.

Affected Public: State and local governments.

Estimated Number of Respondents: For F-forms: 13,440, For E-forms: 16,872/sample year; For F-forms 59,259 For E-forms: 99,402/census year; Total: 30,312/sample year, 158,661/census year.

Estimated Time Per Response: For F-forms: 3.03, For E-forms: .84 hours/sample year; For F-forms 3.00, For E-forms: .82 hours/census year; Total: 3.87 hours/sample year, 3.82 hours/census year.

Estimated Total Annual Burden Hours: For F-forms: 40,755, For E-forms: 14,164 hours/sample year; For F-forms: 177,826 hours, For E-forms: 81,299 hours/census year; Total: 54,919/sample year, 258,585/census year.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C. Sections 161 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2019-28015 Filed 12-27-19; 8:45 am]

BILLING CODE 3510-07-P